DEPARTMENT OF COMMERCE

Foreign-Trade Zones Board

[S-33-2014]

Approval of Subzone Status, Neolpharma, Inc., Caguas, Puerto Rico

On April 1, 2014, the Executive Secretary of the Foreign-Trade Zones (FTZ) Board docketed an application submitted by the Puerto Rico Industrial Development Company, grantee of FTZ 7, requesting subzone status subject to the existing activation limit of FTZ 7, on behalf of Neolpharma, Inc., in Caguas, Puerto Rico.

The application was processed in accordance with the FTZ Act and Regulations, including notice in the Federal Register inviting public comment (79 FR 19051, April 7, 2014). The FTZ staff examiner reviewed the application and determined that it meets the criteria for approval.

Pursuant to the authority delegated to the FTZ Board's Executive Secretary (15 CFR Sec. 400.36(f)), the application to establish Subzone 7O is approved, subject to the FTZ Act and the Board's regulations, including Section 400.13, and further subject to FTZ 7's 2,000-acre activation limit.

Dated: August 13, 2014.
Andrew McGilvray,
Executive Secretary.

[FR Doc. 2014-19650 Filed 8-18-14; 8:45 am]

BILLING CODE 3510-DS-P